NUCLEAR REGULATORY COMMISSION

[Docket No. 52-011; NRC-2008-0252]

Southern Nuclear Operating Company et al.; Notice of Availability of Environmental Assessment and Finding of No Significant Impact for License Amendment to Early Site Permit Issued to Southern Nuclear Operating Company et al., for Vogtle Electric Generating Plant ESP Site Located In Burke County, GA

AGENCY: Nuclear Regulatory Commission.

ACTION: Notice of availability.

FOR FURTHER INFORMATION CONTACT: Terri Spicher, Project Manager, AP1000 Branch 1, Division of New Reactors Licensing, Office of New Reactors, U.S. Nuclear Regulatory Commission, Washington, DC 20555-0001. Telephone: (301) 415-1670; fax number: (301) 415-6323; e-mail: Terri.Spicher@nrc.gov.

SUPPLEMENTARY INFORMATION:

I. Introduction

The Nuclear Regulatory Commission (NRC) is considering issuance of an amendment to Early Site Permit (ESP) No. ESP-004, issued on August 26, 2009, to Southern Nuclear Operating Company (SNC) and several co-applicants (Georgia Power Company, Oglethorpe Power Corporation, Municipal Electric Authority of Georgia, and the City of Dalton, Georgia), for the Vogtle Electric Generating Plant (VEGP) ESP site located in Burke County, Georgia. The license amendment request (LAR) was submitted by letter dated May 24, 2010, and was supplemented by a letter dated June 2, 2010. In particular, pursuant to Title 10 of the Code of Federal Regulations (10 CFR) Section 52.39(e), the request seeks to amend the ESP Site Safety Analysis Report (SSAR) to change the classification of backfill over the slopes of the Units 3 and 4 excavations from Category 1 and 2 backfill to engineered granular backfill (EGB).

NRC has prepared an Environmental Assessment (EA) in support of this amendment in accordance with the requirements of 10 CFR Part 51. Based on the EA, the NRC has concluded that a Finding of No Significant Impact (FONSI) is appropriate. The NRC staff's review of the safety aspects of the amendment request will be documented in a separate safety evaluation report (SER); if warranted by the results of that evaluation, the amendment would be issued following the publication of this Notice.

II. EA Summary

The purpose of the proposed amendment is to authorize a change to the early site permit issued to SNC for the Vogtle Electric Generating Plant ESP site located in Burke County, Georgia. Specifically, the proposed amendment would modify the Vogtle Electric Generating Plant ESP SSAR to change the classification of backfill over the slopes of the Units 3 and 4 excavations from Category 1 and 2 backfill to EGB.

The NRC staff has prepared an EA in support of its review of the proposed action. On the basis of this EA, the NRC finds that there are no significant environmental impacts from the proposed action. The LAR would not change the total quantity or locations of backfill material to be obtained from onsite sources, and the impacts of acquiring EGB from the specified areas located within the VEGP site would remain within the scope of environmental impacts previously analyzed in the Final Environmental Impact Statement (FEIS) for the VEGP ESP and in the EAs for Amendments 1 and 2 to the VEGP ESP and LWA, and found not to be significant. Accordingly, the NRC staff has determined that there would be no significant environmental impacts associated with granting the LAR request.

III. Finding of No Significant Impact

On the basis of the EA, the NRC has concluded that there are no significant environmental impacts from the proposed amendment and has determined not to prepare an environmental impact statement.

IV. Further Information

The ESP amendment request is available electronically at the NRC's Electronic Reading Room at http://www.nrc.gov/reading-rm/adams.html. From this site, persons can access the NRC's Agency-wide Documents Access and Management System (ADAMS). The ADAMS accession number for the May 24, 2010, amendment request is ML101470213 and the accession number for the June 2 supplement is ML101550510. The ADAMS accession number for the EA is ML101660076. The ADAMS accession numbers for the ESP FEIS are ML082240145 and ML082240165, ML082260203, and ML082550040. The ADAMS accession numbers for the EAs for Amendment 1 and Amendment 2 to the ESP are ML101380114 and ML101670592, respectively. If persons do not have access to ADAMS or have problems accessing the documents located in ADAMS, contact the NRC Public Document Room Reference staff at 1-800-397-4209, or 301-415-4737, or via e-mail to pdr.resource@nrc.gov.

These documents may also be viewed electronically on the public computers located at the NRC's Public Document Room (PDR), O 1 F21, One White Flint North, 11555 Rockville Pike, Rockville, MD 20852. The PDR reproduction contractor will copy documents for a fee.

Dated at Rockville, Maryland, this 28th day of June 2010.
For the Nuclear Regulatory Commission,
Jeffrey Cruz,
Chief, AP1000 Branch 1, Division of New Reactors Licensing, Office of New Reactors.

[FR Doc. 2010-16631 Filed 7-7-10; 8:45 am]

BILLING CODE 7590-01-P